FEDERAL RETIREMENT THRIFT INVESTMENT BOARD

Sunshine Act Notice

TIME AND DATE: 10 a.m. (EDT) October 21, 2002.

PLACE: 4th Floor, Conference Room, 1250 H Street, NW., Washington, DC.

STATUS: Parts will be open to the public and part closed to the public.

MATTERS TO BE CONSIDERED: emsp;

Parts Open to the Public

1. Approval of the minutes of the September 17, 2002, Board member meeting.

2. Thrift Savings Plan activity report by the Executive Director (with discussion of litigation to be closed to the public).

Part Closed to the Public

Discussion of litigation.

CONTACT PERSON FOR MORE INFORMATION: Thomas J. Trabucco, Director, Office of External Affairs, (202) 942-1640.

Dated: October 7, 2002.
David L. Hutner,
Secretary to the Board, Federal Retirement Thrift Investment Board.

[FR Doc. 02-25927 Filed 10-7-02; 3:16 pm]

BILLING CODE 6760-01-M